OFFICE OF THE UNITED STATES TRADE REPRESENTATIVE

[Docket No. WTO/DS350]

WTO Dispute Settlement Proceeding Regarding Measures Related to Zeroing and Certain Investigations, Administrative Reviews and Sunset Reviews Involving Products From the European Communities

AGENCY: Office of the United States Trade Representative.

ACTION: Notice; request for comments.

SUMMARY: The Office of the United States Trade Representative (“USTR”) is providing notice that the European Communities (EC) has requested consultations with the United States under the Marrakesh Agreement Establishing the World Trade Organization (“WTO Agreement”) concerning various measures relating to zeroing and antidumping duty orders on certain products from the EC. The EC alleges that determinations made by U.S. authorities concerning these products, and certain related matters, are inconsistent with Articles 1, 2.1, 2.4, 2.4.2, 5.8, 9.1, 9.3, 9.5, 11, 18.3 and 18.4 of the Agreement on Implementation of Article VI of the General Agreement on Tariffs and Trade 1994 (“AD Agreement”), Article VI of the General Agreement on Tariffs and Trade 1994 (“GATT 1994”), and Article XVI:4 of the WTO Agreement. That request may be found at http://www.wto.org contained in documents designated as WT/DS350/1 and WT/DS350/1/Add.1. USTR invites written comments from the public concerning the issues raised in this dispute. In connection with the issues raised in the request for consultations, the public should be aware that on March 6, 2006, the Department of Commerce announced that it will no longer use “zeroing” when making average-to-average comparisons in an antidumping investigation. See 71 FR 11189.

DATES: Although USTR will accept any comments received during the course of the dispute settlement proceedings, comments should be submitted on or before November 15, 2006 to be assured of timely consideration by USTR.

ADDRESSES: Comments should be submitted (i) electronically, to FR0702@ustr.eop.gov, Attn: “EC Zeroing II (DS350)” in the subject line, or (ii) by fax, to Sandy McKinzy at (202) 395-3640. For documents sent by fax, USTR requests that the submitter provide a confirmation copy to the electronic mail address listed above.

FOR FURTHER INFORMATION CONTACT: Elissa Alben, Assistant General Counsel, Office of the United States Trade Representative, 600 17th Street, NW., Washington, DC 20508, (202) 395-9622.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by the EC

With respect to the measures at issue, the EC's request for consultations refers to the following:

1. The implementing regulations of the U.S. Department of Commerce (“DOC”), § 19 CFR Part 351, in particular § 351.414(c)(2);

2. The methodology of the DOC for determining the dumping margin in reviews on the basis of the comparison of a weighted average normal value with individual export prices;

3. The determinations of dumping by the DOC, the determinations of injury by the U.S. International Trade Commission (“ITC”), the DOC notices for the imposition of the antidumping duty, and any automatic assessment instructions issued pursuant to them, in the following investigations:¹

¹ For the precise EC description of these determinations and notices, including the dates of publication in the Federal Register, see Annex I of the EC's consultation request, which is available on the WTO Web site's document distribution facility as document “WT/ DS350/1” and document “WT/DS350/Add.1”.

• Purified carboxymethylcellulose from Switzerland, DOC Case No. A-401-808, ITC Case No. 731-TA-1087;

• Purified carboxymethylcellulose from the Netherlands, DOC Case No. A-421-811, ITC Case No. 731-TA-1086;

• Purified carboxymethylcellulose from Finland, DOC Case No. A-405-803, ITC Case No. 731-TA-1084;

• Chlorinated isocyanurates from Spain, DOC Case No. A-469-814, ITC Case No. 731-TA-1083;

4. The final results of the administrative reviews by the DOC in the following proceedings, and any assessment instructions issued pursuant to them:

• Ball Bearings from France, DOC Case No. A-427-801, 68 FR 35623 (June 16, 2003), amended 68 FR 43712 (July 24, 2003);

• Ball Bearings from Germany, DOC Case No. A-428-801, 68 FR 35623 (June 16, 2003);

• Ball Bearings from Italy, DOC Case No. A-475-801, 68 FR 35623 (June 16, 2003);

• Stainless Steel Sheet and Strip Coils from Italy, DOC Case No. A-475-824, 68 FR 69382 (December 12, 2003);

• Certain Pasta from Italy, DOC Case No. A-475-818, 69 FR 6255 (February 10, 2004), amended 69 FR 81 (April 27, 2004);

• Stainless Steel Sheet and Strip Coils from Germany, DOC Case No. A-428-825, 69 FR 6262, (February 10, 2004);

• Certain Hot-rolled Carbon Steel Flat Products from Netherlands, DOC Case No. A-421-807, 69 FR 115, (June 16, 2004), amended 69 FR 43801 (July 22, 2004);

• Stainless Steel Bar from Germany, DOC Case No. A-428-830, 69 FR 113 (June 14, 2004);

• Stainless Steel Bar from Italy, DOC Case No. A-475-829, 69 FR 113 (June 14, 2004);

• Antifriction Bearings and Parts thereof from France, DOC Case No. A-427-801, 69 FR 55574 (September 15, 2004), amended 69 FR 62023 (October 22, 2004);

• Antifriction Bearings and Parts thereof from Germany, DOC Case No. A-428-801, 69 FR 55574 (September 15, 2004), amended 69 FR 63507 (November 2, 2004);

• Antifriction Bearings and Parts thereof from Italy, DOC Case No. A-475-801, 69 FR 55574 (September 15, 2004), amended 69 FR 62023 (October 22, 2004);

• Antifriction Bearings and Parts thereof from the United Kingdom, DOC Case No. A 412-801, 69 FR 55574 (September 15, 2004), amended 69 FR 62023 (October 22, 2004);

• Stainless Steel Plate in Coils from Belgium, DOC Case No. A-423-808, 69 FR 74495 (December 14, 2004), amended 70 FR 2999 (January 19, 2005);

• Stainless Steel Sheet and Strip in Coils from Germany, DOC Case No. A-428-825, 69 FR 75930, (December 20, 2004);

• Steel Concrete Reinforcing Bars from Latvia, DOC Case No. A-449-804, 69 FR 74498 (December 14, 2004);

• Certain Pasta from Italy, DOC Case No. A-475-818, 70 FR 6832 (February 9, 2005);

• Certain Hot-rolled Carbon Steel Flat Products from the Netherlands, DOC Case No. A-421-807, 70 FR 18366 (April 11, 2005);

• Stainless Steel Bar from Germany, DOC Case No. A-428-830, 71 FR 42802 (July 28, 2006), amended 71 FR 52063 (September 1, 2006);

• Stainless Steel Bar from France, DOC Case No. A-427-820, 70 FR 46482 (August 10, 2005);

• Ball Bearings and parts thereof from France, DOC Case No. A-427-801, 70 FR 54711 (September 16, 2005);

• Ball Bearings and parts thereof from Germany, DOC Case No. A-428-801, 70 FR 54711 (September 16, 2005);

• Ball Bearings and parts thereof from Italy, DOC Case No. A-475-801, 70 FR 54711 (September 16, 2005);

• Ball Bearings and parts thereof from the United Kingdom, DOC Case No. A-412-801, 70 FR 54711 (September 16, 2005);

• Certain Pasta from Italy, DOC Case No. A-475-818, 70 FR 71464 (November 29, 2005);

• Stainless Steel Plate in Coils from Belgium, DOC Case No. A-423-808, 70 FR 72789 (December 7, 2005);

• Stainless Steel Sheet and Strip in Coils from Germany, DOC Case No. A-428-825, 70 FR 73729 (December 13, 2005);

• Steel Concrete Reinforcing Bars from Latvia, DOC Case No. A-449-804, 71 FR 7016 (February 10, 2006);

• Stainless Steel Bar from France, DOC Case No. A-427-820, 71 FR 30873 (May 31 2006);

• Ball Bearings and parts thereof from France, DOC Case No. A-427-801, 71 FR 40064 (July 14, 2006);

• Ball Bearings and parts thereof from Germany, DOC Case No. A-428-801, 71 FR 40064 (July 14, 2006);

• Ball Bearings and parts thereof from Italy, DOC Case No. A-475-801, 71 FR 40064 (July 14, 2006);

• Steel Concrete Reinforcing Bars from Latvia, DOC Case No. A-449-804, 71 FR 45031 (August 8, 2006);

• Stainless Steel Sheet and Strip in Coils from Italy, DOC Case No. A-475-824, 70 FR 7472 (February 14, 2005), amended 70 FR 13009 (March 17, 2005);

• Stainless Steel Sheet and Strip in Coils from Germany, DOC Case No. A-428-825, 71 FR 45024 (August 8, 2006); and

5. The final results of the sunset review in the following proceeding:

• Brass Sheet and Strip from Germany, DOC Case No. A-428-602, ITC Case No. 731-TA-317.

Public Comment: Requirements for Submissions

Interested persons are invited to submit written comments concerning the issues raised in this dispute. Persons may submit their comments either (i) electronically, to FR0702@ustr.eop.gov, Attn: “EC Zeroing II (DS350)” in the subject line, or (ii) by fax to Sandy McKinzy at (202) 395-3640. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly designated as such and the submission must be marked “BUSINESS CONFIDENTIAL” at the top and bottom of the cover page and each succeeding page.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened or in the event of an appeal from such a panel, the U.S. submissions, the submissions, or non-confidential summaries of submissions, received from other participants in the dispute; the report of the panel, and, if applicable, the report of the Appellate Body. An appointment to review the public file (Docket No. WT/DS-350, EC Zeroing II) may be made by calling the USTR Reading Room at (202) 395-6186. The USTR Reading Room is open to the public from 9:30 a.m. to noon and 1 p.m. to 4 p.m., Monday through Friday.

Daniel E. Brinza,
Assistant United States Trade Representative for Monitoring and Enforcement.

[FR Doc. E6-17988 Filed 10-26-06; 8:45 am]

BILLING CODE 3190-W7-P